DEPARTMENT OF HEALTH AND HUMAN SERVICES

Centers for Disease Control and Prevention

[60 Day-08-0740]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam Daneshvar, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Medical Monitoring Project—Revision—National Center for HIV, Viral Hepatitis, STD and TB Prevention (NCHHSTP), Centers for Disease Control and Prevention (CDC).

Background and Brief Description

The Medical Monitoring Project (MMP) is a nationally representative, population-based surveillance system to assess clinical outcomes, behaviors, and the quality of HIV care. The primary objectives of MMP are to obtain data from a national probability sample of HIV-infected persons receiving care in the U.S. to: (a) Describe the clinical status of recruited patients; (b) describe HIV care and support services being received and the quality of those services; (c) describe the prevalence and occurrence of co-morbidities related to HIV disease; (d) determine prevalence of ongoing risk behaviors, as well as the access to and use of prevention services among persons living with HIV; and (e) identify met and unmet needs for HIV care and prevention services in order to inform community and care planning groups, health care providers, and other stakeholders. In order to meet these objectives, patients will be recruited to the project from randomly selected HIV care providers (e.g., physicians and other care providers) in the U.S.

MMP was implemented in 2005 and is currently being conducted in 26 project areas. The methods for the project remain the same; however, data collection instruments have been revised based on experience in previous data collection cycles. An estimated 8,320 patients will participate in MMP each data collection cycle.

As part of this current revision to MMP, CDC is requesting the addition of a survey of randomly selected HIV care providers (e.g., physicians, nurse practitioners and physician's assistants) in the U.S. regarding their training history, areas of specialization, ongoing sources of training and continuing education about HIV care, and awareness of HIV treatment guidelines and resources.

In order to understand factors associated with access to and quality of care, it is necessary to understand the characteristics of the HIV care providers randomly selected for inclusion in the project. This information will be obtained by conducting a provider survey. All HIV care providers who are sampled into MMP—about 1440 in all—will be asked to participate in the survey, whether or not the provider's patients participate in MMP. Participation is voluntary. Those who consent will be asked to complete a self-administered survey which will include questions about training history, areas of specialization, ongoing sources of training and continuing education about HIV care, and awareness of HIV treatment guidelines and resources.

The information collected in the MMP Provider Survey will be used in conjunction with other MMP data to assess who is providing HIV care, to examine the impact of provider characteristics on the quality and standard of care being provided to patients with HIV, and to determine opportunities to improve resources available to HIV care providers. There is no cost to respondents other than their time.

Estimate of Annualized Burden Table
Respondents | Number of respondents | Number of responses per respondent | Average burden per response (in hours) | Total burden (hours)
Patients interviewed with standard interview | 7,988 | 1 | 45/60 | 5,991
Patients interviewed with short interview | 166 | 1 | 20/60 | 55
Patient Proxies interviewed with proxy interview | 166 | 1 | 20/60 | 55
Facility staff pulling medical records | 7,488 | 1 | 3/60 | 374
Facility staff providing Estimated Patient Loads | 936 | 1 | 2 | 1,872
Facility staff providing patient lists | 1,030 | 1 | 30/60 | 515
Patients approached by facility staff for enrollment | 3,120 | 1 | 5/60 | 260
Providers completing a survey | 1,440 | 1 | 20/60 | 480
Total |  |  |  | 9,602

Dated: May 30, 2008.
Maryam I. Daneshvar,
Acting Reports Clearance Officer, Centers for Disease Control and Prevention.

[FR Doc. E8-12640 Filed 6-5-08; 8:45 am]

BILLING CODE 4163-18-P